DEPARTMENT OF LABOR

Employment and Training Administration

[TA-W-56,540]

G & H Machine Company, Inc., Kinzee, PA; Notice of Termination of Investigation

Pursuant to section 221 of the Trade Act of 1974, as amended, an investigation was initiated on February 9, 2005, in response to a petition filed on behalf of workers at G & H Machine Company, Inc., Kinzee, Pennsylvania.

The petition regarding the investigation contained no company contact information and has therefore been deemed invalid. Consequently, the investigation has been terminated.

Signed at Washington, DC, this 14th day of February 2005.
Richard Church,
Certifying Officer, Division of Trade Adjustment Assistance.

[FR Doc. E5-1144 Filed 3-15-05; 8:45 am]

BILLING CODE 4510-30-P